DEPARTMENT OF COMMERCE

International Trade Administration

[A-570-970, C-570-971]

Multilayered Wood Flooring From the People's Republic of China: Final Results of Changed Circumstances Reviews

AGENCY: Enforcement and Compliance, International Trade Administration, Department of Commerce.

SUMMARY: On February 7, 2017, the Department of Commerce (the “Department”) published its notice of initiation and preliminary results of changed circumstances reviews (“CCR”) of the antidumping duty (“AD”) and countervailing duty (“CVD”) orders on multilayered wood flooring from the People's Republic of China (“PRC”) (Preliminary Results). The Department preliminarily determined that Yihua Lifestyle Technology Co., Ltd. (“Yihua Tech”) is the successor-in-interest to Guangdong Yihua Timber Industry Co., Ltd. (“Yihua Timber”) for purposes of the AD and CVD orders on wood flooring from the PRC and, as such, is entitled to Yihua Timber's AD and CVD cash deposit rates with respect to entries of subject merchandise. We invited interested parties to comment on the Preliminary Results. As no parties submitted comments, and there is no other information or evidence on the record calling into question our Preliminary Results, the Department is making no changes to the Preliminary Results. For these final results, the Department continues to find that Yihua Tech is the successor-in-interest to Yihua Timber.

DATES: Effective March 22, 2017.

FOR FURTHER INFORMATION CONTACT: Jonathan Hill, AD/CVD Operations, Office IV, Enforcement and Compliance, International Trade Administration, U.S. Department of Commerce, 1401 Constitution Avenue NW., Washington, DC 20230; telephone: (202) 482-3518.

SUPPLEMENTARY INFORMATION:

Background

On December 8, 2011, the Department published the AD and CVD orders on multilayered wood flooring from the PRC.¹ On July 28, 2016, Yihua Tech requested that the Department initiate expedited CCRs and determine that it is the successor-in-interest to Yihua Timber for purposes of determining AD and CVD liabilities.² On February 7, 2017, the Department initiated CCRs and made preliminary findings that Yihua Tech is the successor-in-interest to Yihua Timber and is entitled to Yihua Timber's AD and CVD cash deposit rates with respect to entries of subject merchandise.³ We provided interested parties 14 days from the date of publication of the Preliminary Results to submit case briefs. No interested parties submitted case briefs or requested a hearing.

¹ See Multilayered Wood Flooring from the People's Republic of China: Amended Final Determination of Sales at Less Than Fair Value and Antidumping Duty Order, 76 FR 76690 (December 8, 2011); see also Multilayered Wood Flooring from the People's Republic of China: Countervailing Duty Order, 76 FR 76692 (December 8, 2011, as amended, Multilayered Wood Flooring from the People's Republic of China: Amended Antidumping and Countervailing Duty Orders, 77 FR 5484 (February 3, 2012) (“Orders”).

² See Letter from Yihua Tech to the Secretary of Commerce “Wooden Bedroom Furniture from the People's Republic of China (AD) and Multilayered Wood Flooring from the People's Republic of China (AD/CVD); Request for Changed Circumstances Review,” dated July 28, 2016 (“CCR Request”).

³ See Multilayered Wood Flooring from the People's Republic of China: Initiation and Preliminary Results of Antidumping and Countervailing Duty Changed Circumstances Reviews; 82 FR 9561 (February 7, 2017) (“Preliminary Results”) and accompanying Preliminary Decision Memorandum.

Scope of the Order

The merchandise covered by the orders includes wood flooring, subject to certain exceptions. Imports of the subject merchandise are provided for under the following subheadings of the Harmonized Tariff Schedule of the United States (“HTSUS”): 4412.31.0520; 4412.31.0540; 4412.31.0560; 4412.31.2510; 4412.31.2520; 4412.31.3175; 4412.31.4040; 4412.31.4050; 4412.31.4060; 4412.31.4070; 4412.31.4075; 4412.31.4080; 4412.31.5125; 4412.31.5135; 4412.31.5155; 4412.31.5165; 4412.31.5175; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

While HTSUS subheadings are provided for convenience and customs purposes, the written description of the subject merchandise is dispositive.⁴

⁴ For a complete description of the Scope of the Orders, please see Preliminary Results and accompanying Preliminary Decision Memorandum.

Final Results of Changed Circumstances Reviews

Because the record contains no information or evidence that calls into question the Preliminary Results, for the reasons stated in the Preliminary Results, the Department continues to find that Yihua Tech is the successor-in-interest to Yihua Timber, and is entitled to Yihua Timber's AD and CVD cash deposit rates with respect to entries of subject merchandise.⁵

⁵ For a complete discussion of the Department's findings, which remain unchanged in these final results and which are herein incorporated by reference and adopted by this notice, see generally the Preliminary Decision Memorandum accompanying the Preliminary Results.

Instructions to U.S. Customs and Border Protection

Based on these final results, we will instruct U.S. Customs and Border Protection to collect estimated AD and CVD duties for all shipments of subject merchandise exported by Yihua Tech and entered, or withdrawn from warehouse, for consumption on or after the publication date of this notice in the Federal Register at the current AD and CVD cash deposit rates for Yihua Timber (i.e., 17.37 percent and 1.38 percent, respectively).⁶ These cash deposit requirements shall remain in effect until further notice.

⁶ See Multilayered Wood Flooring from the People's Republic of China: Final Results of Antidumping Duty Administrative Review; 2013-2014, 81 FR 46899 (July 19, 2016); see also Multilayered Wood Flooring from the People's Republic of China: Final Results and Partial Rescission of Countervailing Duty Administrative Review; 2013, 81 FR 32291 (May 23, 2016).

Notification to Interested Parties

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing this final results notice in accordance with sections 751(b) and 777(i) of the Tariff Act of 1930, as amended, and 19 CFR 351.216 and 351.221(c)(3).

Dated: March 16, 2017.
Ronald K. Lorentzen,
Acting Assistant Secretary for Enforcement and Compliance.

[FR Doc. 2017-05666 Filed 3-21-17; 8:45 am]

BILLING CODE 3510-DS-P